ENVIRONMENTAL PROTECTION AGENCY

40 CFR Part 52

[EPA-R01-OAR-2014-0842; A-1-FRL-9927-33-Region 1]

Approval and Promulgation of Air Quality Implementation Plans; Connecticut; Prevention of Significant Deterioration and Nonattainment New Source Review

AGENCY: Environmental Protection Agency (EPA).

ACTION: Proposed rule.

SUMMARY: The Environmental Protection Agency (EPA) is proposing to approve certain revisions to the State of Connecticut State Implementation Plan (SIP) relating to regulation of fine particulate matter (PM2.5) emissions within the context of EPA's Prevention of Significant Deterioration (PSD) regulations. EPA is also proposing to approve clarifications to the applicability section of Connecticut's Nonattainment New Source Review (NNSR) regulations. These revisions will be part of Connecticut's major stationary source preconstruction permitting programs, and are intended to align Connecticut's regulations with the federal PSD and NNSR regulations. This action is being taken in accordance with the Clean Air Act (CAA).

DATES: Written comments must be received on or before August 24, 2015.

ADDRESSES: Submit your comments, identified by Docket ID Number EPA-R01-OAR-2014-0842 by one of the following methods:

1. www.regulations.gov: Follow the on-line instructions for submitting comments.

2. Email: dahl.donald@epa.gov

3. Fax: (617) 918-01657.

4. Mail: “Docket Identification Number EPA-R01-OAR-2014-0842”, Donald Dahl, U.S. Environmental Protection Agency, EPA New England Regional Office, Office of Ecosystem Protection, Air Permits, Toxics, and Indoor Programs Unit, 5 Post Office Square—Suite 100, (Mail code OEP05-2), Boston, MA 02109-3912.

5. Hand Delivery or Courier. Deliver your comments to: Donald Dahl, U.S. Environmental Protection Agency, EPA New England Regional Office, Office of Ecosystem Protection, Air Permits, Toxics, and Indoor Programs Unit, 5 Post Office Square—Suite 100 (Mail code OEP05-2), Boston, MA 02109-3912. Such deliveries are only accepted during the Regional Office's normal hours of operation. The Regional Office's official hours of business are Monday through Friday, 8:30 a.m. to 4:30 p.m., excluding legal holidays.

Please see the direct final rule which is located in the Rules and Regulations section of this issue of the Federal Register for detailed instructions on how to submit comments.

FOR FURTHER INFORMATION CONTACT: Donald Dahl, U.S. Environmental Protection Agency, EPA New England Regional Office, Office of Ecosystem Protection, Air Permits, Toxics, and Indoor Programs Unit, 5 Post Office Square—Suite 100, (mail code OEP05-2), Boston, MA 02109-3912. Mr. Dahl's telephone number is (617) 918-1657; email address: dahl.donald@epa.gov.

SUPPLEMENTARY INFORMATION: In the Rules and Regulations section of this issue of the Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules and Regulations section of this issue of the Federal Register.

Dated: April 20, 2015.
H. Curtis Spalding,
Regional Administrator, EPA New England.

[FR Doc. 2015-17665 Filed 7-23-15; 8:45 am]

BILLING CODE 6560-50-P